DEPARTMENT OF LABOR

Employment and Training Administration

[TA-W-50,858 and TA-W-50,858A]

Freedom Plastic, LLC, Sheffield, IL; Freedom Plastic, LLC, Joliet, IL; Notice of Termination of Investigation

Pursuant to section 221 of the Trade Act of 1974, as amended, an investigation was initiated on February 11, 2003 in response to a worker petition filed by a company official on behalf of workers at Freedom Plastics, LLC, Sheffield, Illinois (TA-W-50,858) and Freedom Plastics, LLC, Joliet, Illinois (TA-W-50,858A).

The petitioning group of workers is covered by an earlier petition filed on February 10, 2003 (TA-W-50,871) that is the subject of an ongoing investigation for which a determination has not yet been issued. Further investigation in this case would duplicate efforts and serve no purpose; therefore the investigation under this petition has been terminated.

Signed at Washington, DC, this 14th day of February 2003.
Richard Church,
Certifying Officer, Division of Trade Adjustment Assistance.

[FR Doc. 03-5550 Filed 3-7-03; 8:45 am]

BILLING CODE 4510-30-P